DEPARTMENT OF ENERGY

Federal Energy Regulatory Commission

[Project No. 2206-030]

Carolina Power & Light Company; Notice of Application Tendered for Filing With the Commission, Soliciting Additional Study Requests, and Establishing Procedural Schedule for Licensing and Deadline for Submission of Final Amendments

May 10, 2006.

Take notice that the following hydroelectric application has been filed with the Commission and is available for public inspection.

a. Type of Application: New Major License.

b. Project No.: 2206-030.

c. Date Filed: April 26, 2006.

d. Applicant: Carolina Power & Light Company (d/b/a Progress Energy Carolinas, Inc.)

e. Name of Project: Yadkin-Pee Dee River Hydroelectric Project.

f. Location: The existing project is located on the Yadkin and Pee Dee Rivers in Montgomery, Stanly, Anson, and Richmond Counties, North Carolina. The project does not affect Federal lands.

g. Filed Pursuant to: Federal Power Act 16 U.S.C. 791 (a)-825(r).

h. Applicant Contact: E. Michael Williams, Senior Vice President Power Operations, Progress Energy, 410 S. Wilmington Street PEB 13, Raleigh, North Carolina 27062; Telephone (919) 546-6640.

i. FERC Contact: Stephen Bowler, (202) 502-6861; or stephen.bowler@ferc.gov or Lee Emery, (202) 502-8379; or lee.emery@ferc.gov.

j. Cooperating Agencies: We are asking Federal, state, local, and tribal agencies with jurisdiction and/or special expertise with respect to environmental issues to cooperate with us in the preparation of the environmental document. Agencies who would like to request cooperating status should follow the instructions for filing such requests described in item 1 below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for Filing Additional Study Requests and Requests for Cooperating Agency Status: June 26, 2006.

m. This application is not ready for environmental analysis at this time.

n. The Project Description: The existing Yadkin-Pee Dee Project consists of the Tillery Development on the Yadkin River and the Blewett Falls Development on the Pee Dee River. The project has a combined installed capacity of 108.6 MW and an average annual generation of 326 million kilowatt-hours.

The Tillery Development includes the following constructed facilities: (1) A 1,200-foot-long earthen embankment and 1,550-foot-long, concrete gravity structure including a 758-foot-long, 62-foot-high spillway; (2) eighteen, 34-foot-wide by 24-foot-high radial spillway gates; (3) a 14-foot-wide bottom-drop trash sluice gate; (4) a 5,697-acre reservoir, with a normal pool elevation of 277.3 feet NAVD 88 (North American Vertical Datum of 1988) and a usable storage capacity of 84,150 acre-feet; (5) a concrete, indoor-outdoor powerhouse, integral to the dam, containing three Francis turbines and one fixed-blade propeller turbine directly connected to generators with a total installed capacity of 84 MW; (6) a small Francis turbine powering a “house generator” with an installed capacity of 360 kW; and (7) appurtenant facilities.

The Blewett Falls Development includes the following constructed facilities: (1) A 1,700-foot-long earthen embankment and 1,468-foot-long, concrete gravity structure including a spillway with abutments; (2) 4-foot-high, wooden flashboards; (3) a 2,866-acre reservoir, with a normal pool elevation of 177.2 feet NAVD 88 and a usable storage capacity of 30,893 acre-feet; (4) a powerhouse, integral to the dam, containing six pairs of identical S. Morgan Smith hydraulic turbines, each pair with its own penstock and headgate and directly connected to its own generator, for a total installed capacity of 24.6 MW; (5) a 900-foot-long tailrace channel; and (6) appurtenant facilities.

The Tillery Development is operated as a peaking facility. It is licensed for a 22 foot drawdown, but managed for drawdowns of not more than four feet under normal conditions and one foot from April 15 to May 15 to protect largemouth bass spawning. The Blewett Falls Development is operated as a re-regulating facility, smoothing out flows released from the upstream developments. Blewett Falls is licensed for a drawdown of 17 feet, but generally operates with drawdowns of two to four feet. The existing license requires the release of a continuous minimum flow of 40 cfs from the Tillery Development and 150 cfs from the Blewett Falls Development. By regional agreement, a 900 cfs daily flow release from the project is required as part of a drought management protocol.

o. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

You may also register online at http://www.ferc.gov/esubscribenow.htm to be notified via e-mail of new filings and issuances related to this or other pending projects. For assistance, contact FERC Online Support.

p. With this notice, we are initiating consultation with the North Carolina State Historic Preservation Officer (SHPO), as required by section 106, National Historic Preservation Act, and the regulations of the Advisory Council on Historic Preservation, 36, CFR, at § 800.4.

q. Procedural Schedule: The application will be processed according to the following Hydro Licensing Schedule. Revisions to the schedule may be made as appropriate.

Milestone | Target Date
Tendering Notice | May 10, 2006.
Additional Study Requests & Interventions | June 26, 2006.
Additional Information Requests (if necessary) | July 2006.
Issue Acceptance Letter | October 2006.
Issue Scoping Document 1 for Comments | November 2006.
Hold Scoping Meetings | January 2006.
Request Additional Information (if necessary) | February 2007.
Issue Scoping Document 2 | March 2007.
Notice of Ready for Environmental Analysis | March 2007.
Filing of recommendations, preliminary terms and conditions, and fishway prescriptions | May 2007.
Commission issues Draft EA or EIS | September 2007.
Comments on Draft EA or EIS & Modified Terms and Conditions | November 2007.
Commission Issues Final EA or EIS | March 2008.
Ready for Commission Decision on the Application | April 2008.

Final amendments to the application must be filed with the Commission no later than 30 days from the issuance date of the notice of ready for environmental analysis.

Magalie R. Salas,
Secretary.

[FR Doc. E6-7491 Filed 5-16-06; 8:45 am]

BILLING CODE 6717-01-P